COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) and service(s) previously furnished by such agencies.

DATES: Comments must be received on or before: December 6, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Filter Maintenance Service

Mandatory for: U.S. Navy, NAVFAC Mid Atlantic Division, Naval Station Great Lakes, IL

Designated Source of Supply: Ada S. McKinley Community Services, Inc., Chicago, IL

Contracting Activity: DEPT OF THE NAVY, NAVAL FAC ENGINEERING CMD MID LANT

Deletions

The following product(s) and service(s) are proposed for deletion from the Procurement List:

Product(s)

NSN(s)—Product Name(s):

7510-01-357-6830—Pad, Executive Message Recording, White/Yellow, 2-5/8″ x 6-1/4″, 400 Message Forms

Designated Source of Supply: Winston-Salem Industries for the Blind, Inc., Winston-Salem, NC

Designated Source of Supply: The Arkansas Lighthouse for the Blind, Little Rock, AR

Contracting Activity: GSA/FAS ADMIN SVCS ACQUISITION BR(2, NEW YORK, NY

NSN(s)—Product Name(s):

7530-01-600-2026—Notebook, Memorandum Book, 100% PCW, 3 x 5″, 60 sheets, Narrow Rule, White

7530-01-600-2028—Notebook, Spiral Bound, 100% PCW, 8-1/2 x 11″, 80 sheets, College Rule, White

7530-01-600-2027—Notebook, Spiral Bound, 100% PCW, 8-1/2 x 11″, 100 sheets, Wide Rule, White

7530-01-600-2016—Notebook, Spiral Bound, 100% PCW, 8-1/2 x 11″, 120 sheets, College Rule, White

7530-01-600-2015—Notebook, Spiral Bound, 100% PCW, 8-1/2 x 11″, 200 sheets, College Rule, White

7530-01-600-2021—Notebook, Spiral Bound, 100% PCW, 8 x 10-1/2″, 70 sheets, Wide Rule, White

Designated Source of Supply: Winston-Salem Industries for the Blind, Inc., Winston-Salem, NC

Contracting Activity: GSA/FAS ADMIN SVCS ACQUISITION BR(2, NEW YORK, NY

NSN(s)—Product Name(s):

1005-01-134-3621—Index, Elevation

Designated Source of Supply: Arizona Industries for the Blind, Phoenix, AZ

Contracting Activity: DLA LAND AND MARITIME, COLUMBUS, OH

Service(s)

Service Type: Cutting and Assembly

Mandatory for: Robins Air Force Base, Robins AFB, GA

Designated Source of Supply: Middle Georgia Diversified Industries, Inc., Dublin, GA

Contracting Activity: DEFENSE LOGISTICS AGENCY, DLA AVIATION

Service Type: Janitorial/Custodial

Mandatory for: Denver Federal Center: Building 95, Denver, CO

Designated Source of Supply: North Metro Community Services for Developmentally Disabled, Westminster, CO

Contracting Activity: GENERAL SERVICES ADMINISTRATION, FPDS AGENCY COORDINATOR

Service Type: Vehicle Washing Service

Mandatory for: U.S. Customs and Border Protection, Island of Puerto Rico & Virgin Islands, San Juan, PR

Mandatory Source of Supply: The Corporate Source, Inc., Garden City, NY

Contracting Activity: U.S. CUSTOMS AND BORDER PROTECTION, BORDER ENFORCEMENT CTR DIV

Service Type: Janitorial/Grounds Maintenance

Mandatory for: U.S. Customs and Border Protection, Big Bend Sector Texas, Marfa, TX

Designated Source of Supply: Professional Contract Services, Inc., Austin, TX

Contracting Activity: U.S. CUSTOMS AND BORDER PROTECTION, BORDER ENFORCEMENT CTR DIV

Service Type: Janitorial/Custodial

Mandatory for: Naval Intelligence Command Building: (NIC II including trailers 1, 2 and 3), Suitland, MD

Designated Source of Supply: Melwood Horticultural Training Center, Inc., Upper Marlboro, MD

Contracting Activity: GENERAL SERVICES ADMINISTRATION, FPDS AGENCY COORDINATOR

Service Type: Custodial & Grounds Maintenance

Mandatory for: Immigration and Customs Enforcement: Penthouse Floor and Parking Floor, San Juan, PR

Mandatory for: Immigration and Customs Enforcement: Calle Gonzalez Clemente #30, Mayaguez, PR

Designated Source of Supply: The Corporate Source, Inc., Garden City, NY

Contracting Activity: U.S. IMMIGRATION AND CUSTOMS ENFORCEMENT, MISSION SUPPORT DALLAS

Service Type: Janitorial/Custodial

Mandatory for: GSA, Leased Space: 603-11 East 2nd Street, Des Moines, IA

Mandatory for: U.S. Courthouse Annex, Des Moines, IA

Designated Source of Supply: Goodwill Solutions, Inc., Johnston, IA

Contracting Activity: PUBLIC BUILDINGS SERVICE, GSA/PUBLIC BUILDINGS SERVICE

Service Type: Custodial service

Mandatory for: National Counterdrug Training Center Campus, Annville, PA

Designated Source of Supply: Opportunity Center, Incorporated, Wilmington, DE

Contracting Activity: DEPT OF THE ARMY, W7NX USPFO ACTIVITY PA ARNG

Service Type: Janitorial/Custodial

Mandatory for: Annapolis USARC, Annapolis, MD

Designated Source of Supply: CHI Centers, Inc., Silver Spring, MD

Contracting Activity: DEPT OF THE ARMY, W6QK ACC-PICA

Service Type: Janitorial/Custodial

Mandatory for: Jecelin USARC, Baltimore, MD

Designated Source of Supply: CHI Centers, Inc., Silver Spring, MD

Contracting Activity: DEPT OF THE ARMY, W6QK ACC-PICA

Service Type: Janitorial/Custodial

Mandatory for: U.S. Federal Building, Courthouse and Post Office, Thomasville, GA

Designated Source of Supply: Thomas Grady Service Center, Inc., Thomasville, GA

Contracting Activity: PUBLIC BUILDINGS SERVICE, ACQUISITION DIVISION/SERVICES BRANCH

Service Type: Grounds Maintenance

Mandatory for: U.S. Army Reserve Center: 1635 Armor Road, Akron, OH

Contracting Activity: DEPT OF THE ARMY, W40M RHCO-ATLANTIC USAHCA

Michael R. Jurkowski,
Deputy Director, Business & PL Operations.

[FR Doc. 2020-24694 Filed 11-5-20; 8:45 am]

BILLING CODE 6353-01-P